DEPARTMENT OF AGRICULTURE

Food Safety and Inspection Service

[Docket No. FSIS-2016-0005]

National Advisory Committee on Meat and Poultry Inspection

AGENCY: Food Safety and Inspection Service, USDA.

ACTION: Notice of public meeting.

SUMMARY: The Food Safety and Inspection Service (FSIS) is announcing that the National Advisory Committee on Meat and Poultry Inspection (NACMPI) is sponsoring a public meeting on March 29-30, 2016. The objective of the public meeting is to review and determine the steps FSIS should take to ensure better Listeria monocytogenes (Lm) control at retail. FSIS is seeking input on whether FSIS should require certain actions by retail stores. FSIS will ask the Committee to consider the following: (1) Should FSIS rely on regulation, the Food Code, or some other means to effect these actions? (2) Are there sources of information that FSIS should consider when deciding on what steps to take that the Agency has not identified?

NACMPI will also review and discuss whether FSIS should pursue mandatory features on the label of processed not ready to eat (NRTE) products that do not appear to be “not ready to eat.” For example: (1) Should all NRTE products be required to bear the statement “raw meat/poultry, for safety cook thoroughly”? (2) Are there other steps FSIS should consider requiring of processors to prevent illnesses involving these products?

DATES: The meeting is scheduled for March 29-30, 2016, from 9:00 a.m.-5:00 p.m. eastern standard time. NACMPI will meet from 8:00 a.m.-9:00 a.m. eastern standard time on March 29, 2016, for administrative purposes. This portion of the meeting is not open to the public.

ADDRESSES: The meeting will take place in the Auditorium at the Patriot Plaza III building, 355 E Street SW., Washington, DC 20024. The auditorium is located on the first floor. Due to increased security measures at the Patriot Plaza III, all persons wishing to attend are strongly encouraged to pre-register in advance.

FOR FURTHER INFORMATION CONTACT: Natasha Williams, Program Specialist, Designated Federal Officer, Outreach and Partnership Division, Office of Outreach, Employee Education and Training, FSIS, Patriot Plaza III Building, 355 E Street SW., Washington, DC 20024; Telephone: (202) 690-6531; Fax: (202) 690-6519; Email: Natasha.Williams@fsis.usda.gov, regarding specific questions about the committee or this meeting. General information about the committee can also be found at: http://www.fsis.usda.gov/wps/portal/fsis/topics/regulations/advisory-committees/nacmpi.

SUPPLEMENTARY INFORMATION:

Background

NACMPI provides advice and recommendations to the Secretary of Agriculture on meat and poultry inspection programs, pursuant to sections 7(c), 24, 301(a)(3), and 301(c) of the Federal Meat Inspection Act, 21 U.S.C. 607(c), 624, 645, 661(a)(3), and 661(c), and to sections 5(a)(3), 5(c), 8(b), and 11(e) of the Poultry Products Inspection Act, 21 U.S.C. 454(a)(3), 454(c), 457(b), and 460(e). The current charter and other information about NACMPI can be found at http://www.fsis.usda.gov/wps/portal/fsis/topics/regulations/advisory-committees/nacmpi.

The U.S. Department of Agriculture's Deputy Under Secretary for Food Safety, Al Almanza is the chairperson of NACMPI. Membership of NACMPI is drawn from distinguished representatives of consumer groups; producers; processors; and marketers from the meat, poultry and egg product industries; State and local government officials; and academia. The current members of NACMPI are: Dr. Michael Crupain, The Dr. Oz Show; Mr. George Wilson, Wilson and Associates; Dr. Tanya Roberts, Center for Foodborne Illness Research and Prevention; Mr. Kurt Brandt, United Food and Commercial Workers International Union; Dr. Dustin Oedekoven, South Dakota Animal Industry Board; Dr. Krzysztof Mazurczak, Illinois Department of Agriculture; Dr. Manpreet Singh, Purdue University; Dr. Randall K. Phebus, Kansas State University; Dr. Patricia Curtis, Auburn University; Mr. Brian Sapp, White Oak Pastures, Inc.; Ms. Sherri Jenkins, JBS®, USA, LLC; Dr. Betsy Booren, North American Meat Institute; Dr. Alice Johnson, Butterball, LLC; Ms. Sherika Harvey, Mississippi Department of Agriculture; Dr. Carol L. Lorenzen, University of Missouri; Dr. Michael L. Rybolt, Tyson Foods, Inc.; and Dr. John A. Marcy, University of Arkansas.

On March 29-30, 2016, NACMPI will review and discuss steps FSIS should take to ensure better Lm controls at retail, and whether FSIS should pursue mandatory features on the label of processed not ready to eat (NRTE) products that do not appear “not ready to eat.”

The two issues described above will be presented to the full Committee. The Committee will then divide into two subcommittees to discuss the issues. Each subcommittee will provide a report of their comments and recommendations to the full Committee before the meeting concludes on Tuesday, March 30, 2016.

Register: Attendees are asked to pre-register for the meeting. Your pre-registration is to include the name of each person in your group; organization or interest represented; the number of people planning to give oral comments, if any; and whether anyone in your group requires special accommodations. Attendees should bring photo identification and plan for adequate time to pass through security screening systems. Attendees may submit their registrations to: http://www.fsis.usda.gov/wps/portal/fsis/topics/regulations/advisory-committees/nacmpi/nacmpi-meetings/nacmpi-registration. FSIS will also accept walk-in registrations. Members of the public requesting to give oral comment to the Committee are to sign in at the registration desk.

Public Comments: Written public comments may be mailed to USDA/FSIS, 1400 Independence Avenue SW., Mail Stop 3778, Washington, DC 20250; submitted via fax (202) 690-6519; or by Email at: NACMPI@fsis.usda.gov.

All written comments are to arrive by March 24, 2016.

Oral comments are also accepted (see instructions under “Register for the Meeting” above).

Availability of Materials for the Meeting: All written public comments will be compiled into a binder and available for review at the meeting. Duplicate comments from multiple individuals will appear as one comment, with a notation that multiple copies of the comment were received. For additional information about the agenda or reports resulting from this meeting please visit: http://www.fsis.usda.gov/wps/portal/fsis/topics/regulations/advisory-committees/nacmpi/nacmpi-meetings.

Meeting Accommodations: USDA is committed to ensuring that all interested persons are included in our events. If you are a person with a disability and would like to request reasonable accommodations to participate in this meeting, please contact Natasha Williams via Telephone: (202) 690-6531; Fax (202) 690-6519; or Email: Natasha.Williams@fsis.usda.gov. All reasonable accommodation requests are managed on a case by case basis.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC on: February 18, 2016.
Alfred V. Almanza,
Acting Administrator.

[FR Doc. 2016-03762 Filed 2-22-16; 8:45 am]

BILLING CODE 3410-DM-P